DEPARTMENT OF AGRICULTURE

Rural Utilities Service

Distance Learning and Telemedicine Loan and Grant Program

AGENCY: Rural Utilities Service, USDA.

ACTION: Notice of application filing deadline.

SUMMARY: The Rural Utilities Service (RUS) announces its Distance Learning and Telemedicine Program application window for funding during fiscal year (FY) 2002. For FY 2002, $27 million in grants and $300 million in loans will be made available for distance learning and telemedicine projects serving rural America. The funding will be provided in three categories: (1) $17 million will be available for grants; (2) $200 million will be available for loans; and (3) $110 million will be available for combination grants and loans ($100 million in loans paired with $10 million in grants, i.e., $10 loan: $1 grant ratio).

DATES: Applications for grants must be postmarked no later than May 13, 2002. Applications for FY 2002 loans or combination loans and grants may be submitted at anytime up to August 31, 2002, and will be processed on a first-come, first serve basis.

ADDRESSES: Applications are to be submitted to the Rural Utilities Service, U.S. Department of Agriculture, 1400 Independence Avenue, SW., STOP 1550, Washington, DC 20250-1550. Applications should be marked “Attention: Director, Advanced Services Division, Telecommunications Program.”

FOR FURTHER INFORMATION CONTACT: Marilyn J. Morgan, Branch Chief, Distance Learning and Telemedicine Branch, U.S. Department of Agriculture, Rural Utilities Service, STOP 1550, Room 2838, South Building, 1400 Independence Avenue, SW., Washington, DC 20250-1550. Telephone: (202) 720-0413, FAX: (202) 720-1051.

SUPPLEMENTARY INFORMATION: For FY 2002, $17 million in grants, a combination of $10 million in grants paired with $100 million in loans, and $200 million in loans will be made available for distance learning and telemedicine projects. RUS encourages early submission of grant applications to determine whether all required items specified in 7 CFR 1703.125 are clearly in form, identifiable, and complete. RUS will examine, provide comment, and return applications that include items that would disqualify them from further consideration for modification if they are submitted by Friday, April 12, 2002. All applications for grants must be postmarked no later than Monday, May 13, 2002, to be eligible for FY 2002 grant funding. Each application will be reviewed for completeness in accordance with 7 CFR part 1703, subparts D, E, F, and G. Ineligible applications will be returned within 15 working days of receipt.

Notice is hereby given that under 7 CFR 1703.124, 1703.133, and 1703.143, RUS has determined the maximum amount of an application for a grant that will be considered for funding in FY 2002 as $500,000. The maximum amount for a loan, generally, that will be considered for funding in FY 2002 is $10 million. However, RUS may fund a project greater than $10 million subject to the project's feasibility and the availability of loan funds.

Applications for financial assistance must be submitted in accordance with 7 CFR part 1703, subparts D, E, F, and G, which establish the policies and procedures for submitting an application for financial assistance. These subparts and an application guide to assist in the preparation of applications are available on the Internet at the following address: http://www.usda.gov/rus/telecom/dlt/dltpublications.htm. Application guides may also be requested from RUS by contacting the Distance Learning and Telemedicine Branch, USDA-RUS, Phone: (202) 720-0413.

Dated: March 4, 2002.
Hilda Gay Legg,
Administrator, Rural Utilities Service.

[FR Doc. 02-5732 Filed 3-8-02; 8:45 am]

BILLING CODE 3410-15-P